DEPARTMENT OF EDUCATION

34 CFR Chapters I-VI

RIN 1894-AA05

[Docket ID ED-2013-OII-0110]

Proposed Priority—Promise Zones

AGENCY: Department of Education.

ACTION: Proposed priority; notice to reopen the public comment period.

SUMMARY: On October 25, 2013, the Secretary of Education (Secretary) published in the Federal Register (78 FR 63913) a notice of proposed priority regarding the expansion of Department of Education (Department) programs and projects that support activities in designated Promise Zones. This notice established a November 25, 2013, deadline for the submission of written comments. We are reopening the public comment period until December 13, 2013.

DATES: We must receive your comments on or before December 13, 2013.

ADDRESSES: Submit your comments through the Federal eRulemaking Portal or via postal mail, commercial delivery, or hand delivery. We will not accept comments by fax or email. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to Use This Site.”

• Postal Mail, Commercial Delivery, or Hand Delivery: If you mail or deliver your comments about these proposed regulations, address them to Jane Hodgdon, U.S. Department of Education, 400 Maryland Avenue SW., Room 4W219, LBJ, Washington, DC 20202-3970.

Privacy Note: The Department's policy is to make all comments received from members of the public available for public viewing in their entirety on the Federal eRulemaking Portal at www.regulations.gov. Therefore, commenters should be careful to include in their comments only information they wish to make publicly available.

FOR FUTHER INFORMATION CONTACT: Jane Hodgdon. Telephone: 202-453-6620. Or by email: Jane.Hodgdon@ed.gov.

If you use a telecommunications device for the deaf (TDD) or a text telephone (TTY), call the Federal Relay Service (FRS), toll free, at 1-800-877-8339.

SUPPLEMENTARY INFORMATION: Background: The Promise Zones notice of proposed priority we published on October 25, 2013, set November 25, 2013, as the closing dates for comments. However, www.regulations.gov, the Government-wide portal that allows the public to comment electronically on notices in the Federal Register, was unavailable for public use most of November 4-6, 2013, and November 10-12, 2013. We reopen the comment period from December 4, 2013 through December 13, 2013 to give the public the full 30 days to provide comments.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fedsys. At this site you can view this document, as well as all other documents of this Department published in the Federal Register, in text or Adobe Portable Document Format (PDF). To use PDF you must have Adobe Acrobat Reader, which is available free at the site.

You may also access documents of the Department published in the Federal Register, by using the article search feature at: www.federalregister.gov. Specifically, through the advanced search feature at this site, you can limit your search to documents published by the Department.

Dated: November 26, 2013.
Arne Duncan,
Secretary of Education.

[FR Doc. 2013-28799 Filed 12-3-13; 8:45 am]

BILLING CODE 4000-01-P